DEPARTMENT OF COMMERCE

International Trade Administration

[A-570-972, A-583-848]

Certain Stilbenic Optical Brightening Agents From the People's Republic of China, and Taiwan: Postponement of Preliminary Determinations of Antidumping Duty Investigations

AGENCY: Import Administration, International Trade Administration, Department of Commerce.

DATES: Effective Date: August 10, 2011.

FOR FURTHER INFORMATION CONTACT: Sandra Stewart at (202) 482-0768 or Hermes Pinilla at (202) 482-3477 (Taiwan), AD/CVD Operations, Office 5; Maisha Cryor at (202) 482-5831 or Shaun Higgins at (202) 482-0679 (People's Republic of China), AD/CVD Operations, Office 4, Import Administration, International Trade Administration, U.S. Department of Commerce, 14th Street and Constitution Avenue, NW., Washington, DC 20230.

SUPPLEMENTARY INFORMATION:

Postponement of Preliminary Determinations

On April 20, 2011, the Department of Commerce (the Department) initiated the antidumping duty investigations on certain stilbenic optical brightening agents from the People's Republic of China and Taiwan. See Certain Stilbenic Optical Brightening Agents From the People's Republic of China and Taiwan: Initiation of Antidumping Duty Investigations, 76 FR 23554 (April 27, 2011). The notice of initiation stated that the Department would issue its preliminary determinations for these investigations no later than 140 days after the issuance of the initiation in accordance with section 733(b)(1)(A) of the Tariff Act of 1930, as amended (the Act), and 19 CFR 351.205(b)(1) unless postponed.

On July 29, 2011, Clariant Corporation (the petitioner) made a timely request pursuant to 19 CFR 351.205(b)(2) and (e) for postponement of the preliminary determinations in these investigations. The petitioner requested a 50-day postponement of the preliminary determinations in order to allow the Department additional time to resolve a number of complex issues in these investigations.

The petitioner submitted a request for postponement of the preliminary determinations more than 25 days before the scheduled date of the preliminary determinations. Therefore, because the petitioner provided reasons for its request and the Department finds no compelling reasons to deny the request, the Department is postponing the deadline for the preliminary determinations in accordance with section 733(c)(1)(A) of the Act and 19 CFR 351.205(b)(2) and (e) by 50 days to October 27, 2011. The deadline for the final determinations will continue to be 75 days after the date of the preliminary determinations unless extended.

This notice is issued and published pursuant to section 733(c)(2) of the Act and 19 CFR 351.205(f)(1).

Dated: August 4, 2011.
Christian Marsh,
Acting Deputy Assistant Secretary for Import Administration.

[FR Doc. 2011-20306 Filed 8-9-11; 8:45 am]

BILLING CODE 3510-DS-M